DEPARTMENT OF TRANSPORTATION

Federal Highway Administration

Environmental Impact Statement: Bellevue, King County, WA; Cancellation of Notice of Intent

AGENCY: Federal Highway Administration (FHWA), DOT.

ACTION: Revised cancellation of notice of intent (FR document 97-13308; Filed 5-20-97).

SUMMARY: The FHWA is issuing this revised notice to rescind the previous Notice of Intent issued on May 9, 1997 (appeared in the Federal Register on May 21, 1997), to prepare an environmental impact statement (EIS) for the proposed highway project in Bellevue, King County, Washington.

FOR FURTHER INFORMATION CONTACT: Dan Mathis, Federal Highway Administration, Evergreen Plaza Building, Suite 501, 711 South Capitol Way, Olympia, Washington, 98501-1284, Telephone: (360) 753-9413; John Okamoto, WSDOT Northwest Region Administrator, 15700 Dayton Avenue North, P.O. Box 330310, Seattle, Washington 98133-9710, Telephone: (206) 440-4691, or Len Pavelka, City of Bellevue Senior Transportation Planner, PO Box 90012, Bellevue, Washington 98009-9012 (425) 452-2035.

SUPPLEMENTARY INFORMATION: The FHWA, with the co-lead agencies of the Washington State Department of Transportation (WSDOT) and the city of Bellevue, issued a Notice of Intent on May 9, 1997 to prepare an EIS on a proposal to provide additional eastbound and westbound access to SR 520 between Interstate 405 and 148th Avenue NE in Bellevue, Washington.

Following an alternative screening process, the Bellevue City Council acted on October 23, 2000 upon a recommendation by the project Interdisciplinary team and confirmed the selection of the “No Action” alternative as the preferred alternative for this project. Further work on the EIS was terminated.

The decision was based on three primary factors: (1) A review of the technical analysis summarized in the Transportation Technical Report revealed a very low benefit to cost relationship, (2) the analysis showed that the interchange alternatives at 124th Avenue NE and 130th Avenue NE would have a negligible effect on reducing congestion to meet the project purpose, and (3) the TransLake Washington EIS is evaluating long-term needs for SR 520. The EIS intends to evaluate interchanges between I-405 and Redmond. The TransLake Washington EIS may recommend widening or other interchange improvements to the corridor or recommendations that would be constrained by a new interchange in the Bel-Red area of SR 520.

Costs for the build alternatives were estimated to range from $35 million to $80 million. These latest cost estimates were substantially higher than previous estimates and exceeded available funds to construct any type of added access improvements to/from SR 520.

In further response to the Council action, the City removed the project from its short-range (6 year) Capital Investment Program. The City is also removing the project from its mid-range (12 year) transportation programming document, the Transportation Facilities Plan.

Authority: Catalog of Federal Domestic Assistance Program Number 20.205, Highway Research, Planning and Construction. The regulations implementing Executive Order 12372 regarding intergovernmental consultation of federal programs and activities apply to this program.

Issued on: June 27, 2001.
James A. Leonard,
Urban Transportation and Environmental Engineer, Olympia, Washington, for the Division Administrator.

[FR Doc. 01-16831 Filed 7-3-01; 8:45 am]

BILLING CODE 4910-22-M